DEPARTMENT OF AGRICULTURE

Forest Service

Notice of New Fee Site; Federal Lands Recreation Enhancement Act (Title VIII, Pub. L. 108-447)

AGENCY: Fishlake National Forest, USDA Forest Service.

ACTION: Notice of new fee site.

SUMMARY: The Fremont River Ranger District of the Fishlake National Forest will begin charging a $8 fee for single family overnight camping and a $25 to $35 fee (depending on the number of people) for group family overnight camping at the Lower Bowns Campground. There will also be a $4 fee for an extra vehicle. This campground is located on the Dixie National Forest, but is administered by the Fishlake National Forest. Overnight camping at other campgrounds on the Dixie National Forest have shown that publics appreciate and enjoy the availability of developed recreation facilities. Funds from the fee charges will be used for continued operation and maintenance of the Lower Bowns Campground.

DATES: Lower Bowns Campground will become available for overnight camping on May 25, 2008 (weather permitting).

ADDRESSES: Forest Supervisor, Fishlake National Forest, 115 East, 900 North, Richfield, Utah 84701.

FOR FURTHER INFORMATION CONTACT: David C. Bell, Forester, 435-836-2811.

SUPPLEMENTARY INFORMATION: The Federal Recreation Lands Enhancement Act (Title VII, Pub. L. 108-447) directed the Secretary of Agriculture to publish a six month advance notice in the Federal Register whenever new recreation fee areas are established. The Fremont River Ranger District of the Fishlake National Forest currently has several fee campgrounds. These facilities are adjacent to Lower Bowns Reservoir on the east slope of Boulder Mountain, in south and central Utah. This area offers significant recreational camping, fishing, boating, ATV riding, horseback riding, hiking, hunting and wildlife viewing opportunities and is rich in historical and cultural importance. A market analysis indicates that the $8/per night single family camping fee and the $25 to $35/per night group family camping fee are both reasonable and acceptable for this sort of unique recreation experience.

Dated: June 6, 2007.
Mary C. Erickson,
Fishlake National Forest Supervisor.

[FR Doc. 07-3284 Filed 7-05-07; 8:45 am]

BILLING CODE 3410-11-M